Title 3—

The President

Presidential Determination No. 2009-9 of December 18, 2008

Unexpected Urgent Humanitarian Needs Related to the Democratic Republic of Congo, Rwanda, and Uganda

Memorandum for the Secretary of State

By the authority vested in me by the Constitution and the laws of the United States, including sections 2 and 4(a)(1) of the Migration and Refugee Assistance Act of 1962 (the “Act”), as amended, (22 U.S.C. 2601 and 2603) and section 301 of title 3, United States Code:

(1) I hereby determine, pursuant to section 2(c)(1) of the Act, that it is important to the national interest to furnish assistance under the Act in an amount not to exceed $6 million from the United States Emergency Refugee and Migration Assistance Fund, for the purpose of meeting unexpected and urgent refugee and migration needs related to humanitarian needs of Congolese refugees and internally displaced, including by contributions to international, governmental, and nongovernmental organizations and payment of administrative expenses of the Bureau of Population, Refugees, and Migration of the Department of State; and

(2) The functions of the President in relation to this memorandum under section 2(d) of the Act, and of establishing terms and conditions under section 2(c)(1) of the Act, are assigned to you, and you may further assign such functions to your subordinates, consistent with applicable law.

You are authorized and directed to publish this memorandum in the Federal Register.

THE WHITE HOUSE,

Washington, December 18, 2008

[FR Doc. E8-31237

Filed 12-30-08; 8:45 am]

Billing code 4710-10-P